DEPARTMENT OF HEALTH AND HUMAN SERVICES

National Institutes of Health

National Institute on Alcohol Abuse and Alcoholism; Notice of Closed Meeting

Pursuant to section 10(d) of the Federal Advisory Committee Act, as amended (5 U.S.C. Appendix 2), notice is hereby given of a meeting of the Board of Scientific Counselors, NIAAA.

The meeting will be closed to the public as indicated below in accordance with the provisions set forth in section 552b(c)(6), Title 5 U.S.C., as amended for the review, discussion, and evaluation of individual intramural programs and projects conducted by the NATIONAL INSTITUTE ON ALCOHOL ABUSE AND ALCOHOLISM, including consideration of personnel qualifications and performance, and the competence of individual investigators, the disclosure of which would constitute a clearly unwarranted invasion of personal privacy.

Name of Committee: Board of Scientific Counselors, NIAAA.

Date: May 28-30, 2008.

Time: May 28, 2008, 8:15 a.m. to 6 p.m.

Agenda: To review and evaluate the Laboratory of Physiological Studies (LPS).

Place: National Institutes of Health, 5635 Fishers Lane, Bethesda, MD 20892.

Time: May 29, 2008, 8 a.m. to 6 p.m.

Agenda: To review and evaluate the Laboratory of Neurogenetics (LNG).

Place: National Institutes of Health, 5635 Fishers Lane, Bethesda, MD 20892.

Time: May 30, 2008, 8 a.m. to 1 p.m.

Agenda: To review and evaluate the Laboratory of Epidemiology and Biometry (LEB).

Place: National Institutes of Health, 5635 Fishers Lane, Bethesda, MD 20892.

Contact Person: Trish Scullion, Chief of Administrative Branch, National Institutes of Health, National Institute on Alcohol Abuse and Alcoholism, 5635 Fishers Lane, Room 3061, Rockville, MD 20852, 301-443-6076.

(Catalogue of Federal Domestic Assistance Program Nos. 93.271, Alcohol Research Career Development Awards for Scientists and Clinicians; 93.272, Alcohol National Research Service Awards for Research Training; 93.273, Alcohol Research Programs; 93.891, Alcohol Research Center Grants, National Institutes of Health, HHS)

Dated: March 28, 2008.
Jennifer Spaeth,
Director, Office of Federal Advisory Committee Policy.

[FR Doc. E8-6978 Filed 4-3-08; 8:45 am]

BILLING CODE 4140-01-M